DEPARTMENT OF COMMERCE

National Oceanic and Atmospheric Administration

[RTID 0648-XC327]

East Coast Fishery Management Councils; Public Meetings

AGENCY: National Marine Fisheries Service (NMFS), National Oceanic and Atmospheric Administration (NOAA), Commerce.

ACTION: Notice; public meetings.

SUMMARY: Several fishery management bodies on the East Coast of the U.S. are convening three webinar meetings of fishery management representatives to continue work on the East Coast Climate Change Scenario Planning initiative. This is a joint effort of the Atlantic States Marine Fisheries Commission, the New England Fishery Management Council, the Mid-Atlantic Fishery Management Council, the South Atlantic Fishery Management Council, and NOAA Fisheries. See SUPPLEMENTARY INFORMATION for agenda details.

DATES: These webinars will be held on Monday, September 19, 2022, from 1 p.m. to 3:30 p.m., on Tuesday, September 20, 2022, from 1 p.m. to 3:30 p.m., and on Monday, October 3, 2022, from 10 a.m. to 12:30 p.m.

ADDRESSES: The meetings will be held via webinar. Connection information will be posted to the calendar prior to the meeting at www.mafmc.org.

FOR FURTHER INFORMATION CONTACT: Christopher M. Moore, Ph.D., Executive Director, Mid-Atlantic Fishery Management Council, telephone: (302) 526-5255.

SUPPLEMENTARY INFORMATION:

Background: Over the past year, East Coast fishery management bodies have been collaborating on a climate change scenario planning initiative designed to prepare fishing communities and fishery managers for an era of climate change. The goals of this project are to assess how climate change might affect stock distribution and availability of East Coast marine fisheries over the next 20 years and to identify the implications for fishery management and governance.

In June 2022, a group of about 70 stakeholders attended a workshop to develop an initial set of scenarios, describing several different possible futures facing East Coast fisheries out to 2042. These scenarios are currently being refined and finalized with feedback received from a set of “scenario deepening” webinars. The next step in this process is to hold a series of virtual meetings of small groups of fishery management representatives from participating organizations. The purpose of these webinars is for these groups to brainstorm issues, ideas, and options that should be discussed at scenario planning conversations at meetings of the East Coast Fishery Management Councils and the Atlantic States Marine Fisheries Commission in late 2022, and subsequently at a Summit Meeting in early 2023. These upcoming small group manager conversations will be focused around applications of the scenarios, discussing which aspects of governance and management may need to change, and how, given the possible conditions described in the scenarios.

These meetings will be open to the public and public comment may be taken at designated times during the webinars. The final scenarios to be discussed, as well as additional information about potential applications, will be made available at: https://www.mafmc.org/climate-change-scenario-planning.

Special Accommodations

These meetings are physically accessible to people with disabilities. Requests for sign language interpretation or other auxiliary aid should be directed to Shelley Spedden, (302) 526-5251, at least 5 days prior to the meeting date.

Authority: 16 U.S.C. 1801 et seq.

Dated: August 29, 2022.
Rey Israel Marquez,
Acting Deputy Director, Office of Sustainable Fisheries, National Marine Fisheries Service.

[FR Doc. 2022-18924 Filed 8-31-22; 8:45 am]

BILLING CODE 3510-22-P